DEPARTMENT OF COMMERCE

National Oceanic and Atmospheric Administration

50 CFR Part 622

[I.D. 011601A]

Fisheries of the Caribbean, Gulf of Mexico, and South Atlantic; Reef Fish Fishery of the Gulf of Mexico; Coastal Migratory Pelagic Resources of the Gulf of Mexico and South Atlantic; Public Hearings

AGENCY: National Marine Fisheries Service (NMFS), National Oceanic and Atmospheric Administration (NOAA), Commerce.

ACTION: Notice of public hearings; request for comments.

SUMMARY: The Gulf of Mexico Fishery Management Council (Council) will convene public hearings to receive comments on the proposed Charter Vessel/Headboat Permit Moratorium Amending the Reef Fish Fishery Management Plan (FMP) and Coastal Migratory Pelagics FMP (Draft Amendment).

DATES: Written comments will be accepted until 5 p.m., March 23, 2001. The public hearings will be held in February. For specific dates and times see SUPPLEMENTARY INFORMATION.

ADDRESSES: Written comments should be sent to, and copies of the Draft Amendment are available from, the Gulf of Mexico Fishery Management Council, 3018 U.S. Highway 301, North, Suite 1000, Tampa, FL 33619. The public hearings will be held in the State of Texas in Port Isabel, Port Aransas, and Galveston; in Larose, LA; in Biloxi, MS; in Orange Beach, AL; and in the State of Florida in Panama City, Key West, Naples, and Madeira Beach. For specific location, see SUPPLEMENTARY INFORMATION.

FOR FURTHER INFORMATION CONTACT: Mr. Wayne Swingle, Executive Director, Gulf of Mexico Fishery Management Council; telephone: (813) 228-2815.

SUPPLEMENTARY INFORMATION: The public hearings will be convened to review new alternatives added by Council members at the November, 2000 Council meeting to the Draft Amendment. The additions principally include alternatives for a charter vessel quota for red snapper based on charter vessel landings for various periods in lieu of implementing the permit moratorium. The Council retained all of the alternatives proposed by the Ad Hoc Charter Vessel/Headboat Advisory Panel along with the preferred alternatives selected by the Council in September. The public hearing document includes a number of alternatives under each of the following issues: Duration of moratorium; a new Gulf permit for the Reef Fish and Coastal Migratory Pelagics Fisheries FMPs; initial eligibility requirements for permits and/or endorsements; annual permit and endorsement transfers during the moratorium; vessel passenger restriction on permit transfers; annual reissuance of permits not renewed (or permanently revoked); appeals process under the moratorium; and, reporting requirements to maintain the new gulf permit/endorsement.

Dates, Times, and Locations for Public Hearings

Public hearings for the Draft Amendment are scheduled as follows:

1. Monday, February 5, 2001 - 7 p.m.—Laguna Madre Learning Center, Port Isabel High School, Highway 100, Port Isabel, TX 78578; telephone: 956-943-0052;

2. Tuesday, February 6, 2001 - 7 p.m.—Port Aransas Community Center, 408 North Allister, Port Aransas, TX 78376; telephone: 361-749-4111;

3. Wednesday February 7, 2001 - 7 p.m.—Texas A&M University, 200 Seawolf Parkway, Galveston, TX 77553; telephone: 409-740-4416;

4. Monday, February 12 , 2001 - 7 p.m.—Larose Regional Park, 307 East 5th Street, Larose, LA 70373; telephone: 504-693-7380;

5. Tuesday, February 13, 2001 - 6 p.m.—MS Department of Marine Resources, 1141 Bayview Drive, Biloxi, MS 39530; telephone: 228-374-5000;

6. Wednesday, February 14, 2001 - 7 p.m.—Hilton Beachfront Garden Inn, 23092 Perdido Beach Boulevard, Orange Beach, AL 36561; telephone: 334-974-1600;

7. Thursday, February 15, 2001 - 7 p.m.—National Marine Fisheries Service, 3500 Delwood Beach Road, Panama City, FL 32408; telephone: 850-234-6541;

8. Monday, February 19, 2001 - 7 p.m.—Holiday Inn Beachside, 3841 North Roosevelt Boulevard, Key West, FL 33040; telephone: 305-294-2571;

9. Tuesday, February 20, 2001 - 7 p.m.—Naples Depot Civic Cultural Center, 1051 Fifth Avenue South, Naples, FL 34102; telephone: 941-262-1776; and

10. Wednesday February 21, 2001 - 7 p.m.—Madeira Beach City Hall, 300 Municipal Drive, Madeira Beach, FL 33708; telephone: 727-391-9951.

The Council will also hear public testimony at the March Council Meeting during the week of March 26-29, 2001, before taking final action on the Draft Amendment. The exact date for public testimony will be published at a later time.

Special Accommodations

These meetings are physically accessible to people with disabilities. Requests for sign language interpretation or other auxiliary aids should be directed to Anne Alford at the Council (see ADDRESSES) by January 29, 2001.

Dated: January 23, 2001.
Bruce C. Morehead,
Acting Director, Office of Sustainable Fisheries, National Marine Fisheries Service.

[FR Doc. 01-2692 Filed 1-31-01; 8:45 am]

BILLING CODE 3510-22-S